OVERSEAS PRIVATE INVESTMENT CORPORATION

Sunshine Notice—October 27, 2011 Board of Directors Meeting

TIME AND DATE: Thursday, October 27, 2011, 10 a.m. (Open Portion) 10:15 a.m. (Closed Portion).

PLACE: Offices of the Corporation, Twelfth Floor Board Room, 1100 New York Avenue, NW., Washington, DC.

STATUS: Meeting OPEN to the Public from 10 a.m. to 10:15 a.m. Closed portion will commence at 10:15 a.m. (approx.).

MATTERS TO BE CONSIDERED:

1. President's Report

2. Tribute—Christopher J. Hanley

FURTHER MATTERS TO BE CONSIDERED: (Closed to the Public 10:15 a.m.)

1. Reports

2. Revisions to OPIC Bylaws

3. Revised Delegation of Authority

4. Finance Project—Egypt and South Sudan (upon the opening of OPIC Programs)

5. Finance Project—Guatemala

6. Finance Project—Peru

7. Finance Project—Mexico

8. Finance Project—Global

9. Finance Project—Mexico, Ukraine, Brazil, Colombia, Jamaica, Egypt, Vietnam, India and Nigeria

10. Finance Project—Sierra Leone, Liberia, other West Africa countries

11. Finance Project—Sub-Saharan Africa

12. Finance Project—Global

13. Pending Major Projects

Written summaries of the projects to be presented will be posted on OPIC's Web site on or about October 7, 2011.

CONTACT PERSON FOR INFORMATION: Information on the meeting may be obtained from Connie M. Downs at (202) 336-8438.

Dated: October 5, 2011.
Connie M. Downs,
Corporate Secretary, Overseas Private Investment Corporation.

[FR Doc. 2011-26302 Filed 10-6-11; 4:15 pm]

BILLING CODE 3210-01-P